DEPARTMENT OF INTERIOR

Bureau of Land Management

[NV-910-00-0777XX-241A]

Call for Nominations for Resource Advisory Council

AGENCY: Bureau of Land Management, Department of the Interior.

ACTION: Notice of vacancy on Resource Advisory Council and call for nominations.

SUMMARY: The purpose of this notice is to solicit public nominations for the Bureau of Land Management's (BLM's) Northeastern Great Basin Resource Advisory Council (RAC) and Mojave-Southern Great Basin RAC in Nevada, to fill vacancies on those RACs for an individual holding elective office in Nevada. The RAC provides advice and recommendations to BLM's Elko, Ely, Battle Mountain and Las Vegas Field Offices on land use planning and management of the public lands within their geographic areas. Public nominations will be considered for 45 days after the publication date of this notice.

The Federal Land Policy and Management Act (FLPMA) directs the Secretary of the Interior to involve the public in planning and issues related to management of lands administered by BLM. Section 309 of FLPMA directs the Secretary to select 10 to 15 member citizen-based advisory councils that are established and authorized consistent with the requirements of Federal Advisory Committee Act (FACA). As required by the FACA, the interests represented by the individuals appointed to the RAC must be balanced and representative of the various issues concerned with the management of public lands.

These include three categories, one of which is Category three, holders of State, county or local elected office, employees of a State agency responsible for management of natural resources, academicians involved in natural sciences, representatives of Indian tribes, and the public-at-large.

The elected officials whose terms have not yet expired will no longer hold elective office after December 31, and this notice is to solicit nominations for replacements. Nominations should be sent to Jo Simpson, BLM Nevada State Office, P.O. Box 12000, Reno, Nevada, 89520-0006; telephone (775) 861-6586.

FOR FURTHER INFORMATION CONTACT: Jo Simpson, Chief, Office of Communications, Bureau of Land Management, Nevada State Office, at 775-861-6586.

Dated: December 7, 2000.
Jean Rivers-Council,
Associate State Director, Nevada.

[FR Doc. 00-32339 Filed 12-19-00; 8:45 am]

BILLING CODE 4310-HC-M